DEPARTMENT OF DEFENSE

Department of the Navy

[Docket ID USN-2012-0002]

Privacy Act of 1974; System of Records

AGENCY: Department of the Navy, DoD.

ACTION: Notice to Add a System of Records.

SUMMARY: The Department of the Navy proposes to add a system of records in its inventory of record systems subject to the Privacy Act of 1974 (5 U.S.C. 552a), as amended.

DATES: This proposed action will be effective on March 1, 2012 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Department of the Navy, DNS-36, 2000 Navy Pentagon, Washington, DC 20350-2000 or call at (202) 685-6545.

SUPPLEMENTARY INFORMATION: The Department of the Navy notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on January 25, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 26, 2012.
Aaron Siegel,
Alternate OSD Federal Register Liaison Officer, Department of Defense.

N01520-1

System name:

Naval War College (NWC) Networking Collaborative.

System location:

Alumni Relations, NWC Press and Events Department, Naval War College, 686 Cushing Ave., Newport, RI 02841-1207.

Categories of individuals covered by the system:

Individuals who wish to receive, on a continuing basis, information regarding NWC future events and conferences, items of academic interest and NWC Press materials.

Categories of records in the system:

Name; home and work addresses; home and work email addresses; phone numbers (home, office, cell, and fax).

Authority for maintenance of the system:

10 U.S.C. 5013, U.S. Navy Regulations, and 5 U.S.C. 301, Departmental Regulations.

Purpose(s):

To maintain a record of individuals and corporate entities who wish to receive, on a continuing basis, information regarding NWC future events and conferences, items of academic interest and NWC Press materials, including educational and professional materials to keep them abreast of current military and political developments which may impact U.S. strategy and doctrine.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

The DoD `Blanket Routine Uses' set forth at the beginning of the Department of the Navy's compilation of systems of records notices apply to this system.

Policies and practices for storing, retrieving, accessing, retaining, and disposing of records in the system:

Storage:

Paper file folders and electronic storage media.

Retrievability:

Name.

Safeguards:

Records are maintained electronically in various folders on the NWC shared drive. Access to those folders is restricted to those who have an official need to know. Hard copies are also maintained in secured storage locations within the NWC Press, NWC Alumni Affairs Office, and NWC Events Department. Access to the NWC server is password protected.

Retention and disposal:

The records will be maintained until the individual requests removal of his or her information from the system, or when the information is superseded, obsolete, or is no longer needed for reference.

System manager(s) and address:

Director of Alumni Affairs, Naval War College, 686 Cushing Ave., Newport, RI 02841-1207.

Editor, Naval War College Press, 686 Cushing Ave., Newport, RI 02841-1207.

Notification procedure:

Individuals seeking to determine whether information about themselves is contained in this system should address written inquiries to the Director of Alumni Affairs, Naval War College, 686 Cushing Ave., Newport, RI 02841-1207.

Written requests should be signed, and contain the full name of the individual(s), and the name and number of this system of records notice so that the request can be sent to the appropriate office.

The system manager may require an original signature or a notarized signature as a means of proving the identity of the individual requesting access to the records.

Records access procedures:

Individuals seeking access to information about themselves contained in this system should address written inquiries to the Director of Alumni Affairs, Naval War College, 686 Cushing Ave., Newport, RI 02841-1207.

Written requests should be signed, and contain the full name of the individual(s), and the name and number of this system of records notice so that the request can be sent to the appropriate office.

The system manager may require an original signature or a notarized signature as a means of proving the identity of the individual requesting access to the records.

Contesting records procedures:

The Navy's rules for accessing records, and for contesting contents and appealing initial agency determinations are published in Secretary of the Navy Instruction 5211.5; 32 CFR part 701; or may be obtained from the system manager.

Record source categories:

The individual or entity.

Exemptions claimed for the system:

None.

[FR Doc. 2012-1995 Filed 1-30-12; 8:45 am]

BILLING CODE 5001-06-P